DEPARTMENT OF TRANSPORTATION

Federal Aviation Administration

[Docket No.: FAA-2024-2406; Summary Notice No. -2024-43]

Petition for Exemption; Summary of Petition Received; International Aero Engines, LLC; Correction

AGENCY: Federal Aviation Administration (FAA), Department of Transportation (DOT).

ACTION: Notice; correction.

SUMMARY: On October 9, 2024, the FAA published a Federal Register Notice (FRN) document titled Petition for Exemption; Summary of Petition Received; International Aero Engines, LLC. That document inadvertently identified the docket number as FAA-2025-2406. The correct docket number is FAA-2024-2406.

DATES: Comments on this petition must identify the petition docket number and must be received on or before October 31, 2024.

ADDRESSES: Send comments identified by docket number FAA-2024-2406 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: William Andrews, 202-267-8181, Office of Rulemaking, Federal Aviation Administration, 800 Independence Avenue SW, Washington, DC 20591.

SUPPLEMENTARY INFORMATION:

Correction

The docket number in the document published October 9, 2024 at 89 FR 81978 in the third column is corrected to FAA-2024-2406.

This notice is published pursuant to 14 CFR 11.85.

Issued in Washington, DC.
Dan Ngo,
Manager, Part 11 Petitions Branch, Office of Rulemaking.

Petition for Exemption

Docket No.: FAA-2024-2406.

Petitioner: International Aero Engines, LLC.

Section(s) of 14 CFR Affected: §§ 33.76(c)(6)(i) and 33.76(c)(7)(vii).

Description of Relief Sought: International Aero Engines, LLC seeks relief to enable certification of current and future variants of the PW1100G-JM series engines for installation on Airbus A320neo family aircraft models incorporating reduced thrust go-around and would like to exercise the privileges of the relief outside the United States.

[FR Doc. 2024-23569 Filed 10-10-24; 8:45 am]

BILLING CODE 4910-13-P